DEPARTMENT OF ENERGY

Federal Energy Regulatory Commission

[Docket No. EC03-118-000, et al.]

Allegheny Energy Supply Company, LLC, et al., Electric Rate and Corporate Filings

August 6, 2003.

The following filings have been made with the Commission. The filings are listed in ascending order within each docket classification.

1. Allegheny Energy Supply Company, LLC, Allegheny Trading Finance Company, J. Aron & Company, Power Receivable Finance, LLC

[Docket No. EC03-118-000]

Take notice that on July 31, 2003, Allegheny Energy Supply Company, LLC, (AESC), Allegheny Trading Finance Company, (ATF), J. Aron & Company (J.Aron) and Power Receivable Finance, LLC (PRF) (together, the Applicants) filed with the Federal Energy Regulatory Commission a joint application pursuant to Section 203 of the Federal Power Act for authorization of a disposition of jurisdictional facilities whereby AESC and ATF will sell and transfer to J.Aron and PRF contracts for the wholesale sale of power. The Applicants have requested Commission action on an expedited basis to permit the transaction to close on or about September 1, 2003.

Comment Date: August 19, 2003.

2. Florida Power & Light Company

[Docket No. ER02-766-005]

Take notice that on August 1, 2003, Florida Power & Light Company filed with the Federal Energy Regulatory Commission a refund compliance filing in the above captioned proceeding.

FPL states that a copy of this filing has been served on DeSoto County Generating Company, L.L.C., parties to Docket No. ER02-766, and the Florida Public Service Commission.

Comment Date: August 22, 2003.

3. Public Service Company of Colorado

[Docket No. ER03-971-001]

Take notice that on August 1, 2003, Public Service Company of Colorado (PS Colorado) tendered for filing a supplement to its general rate case filing, made in Docket ER03-971-000 on June 19, 2003 (June 19 Filing). PS Colorado states that this filing corrects a tax calculation error in the cost of service underlying the rates proposed in the June 19 Filing.

Comment Date: August 22, 2003.

4. PJM Interconnection, L.L.C.

[Docket No. ER03-1145-000]

Take notice that on July 31, 2003, PJM Interconnection, L.L.C. (PJM), submitted for filing amendments to the Amended and Restated Operating Agreement of PJM Interconnection, L.L.C., the Reliability Assurance Agreement Among Load Serving Entities in the MAAC Control Zone, and the PJM West Reliability Assurance Agreement Among Load Serving Entities in the PJM West Region to revise the PJM stakeholder committee structure and to make other changes to facilitate the stakeholder process in PJM.

PJM states that copies of this filing have been served on all PJM members, and each state electric utility regulatory commission in the PJM region.

Comment Date: August 21, 2003.

5. Power Receivable Finance, LLC

[Docket No. ER03-1151-000]

Take notice that on August 1, 2003, Power Receivable Finance, LLC (PRF) petitioned the Federal Energy Regulatory Commission for an order: (1) Accepting for filing PRF's Rate Schedule FERC No. 1; (2) granting waiver of certain requirements of the Commission's regulations; and (3) granting the blanket approvals normally accorded to sellers permitted to sell at market-based rates. PRF also requests that the Commission grant waiver of the 60-day prior notice requirement.

Comment Date: August 22, 2003.

6. Michigan Electric Transmission Company, LLC

[Docket No. ER03-1154-000]

Take notice that on August 1, 2003, Michigan Electric Transmission Company, LLC (METC) filed an executed Wholesale Distribution Service Agreement (Agreement) with Consumers Energy Company (Consumers). METC seeks an effective date of September 1, 2003.

METC states that a copy of this filing has been served on Consumers and the Midwest ISO.

Comment Date: August 22, 2003.

7. California Independent System Operator Corporation

[Docket No. ER03-1155-000]

Take notice that on August 1, 2003, the California Independent System Operator Corporation (ISO) tendered for filing Amendment No. 1 to the Interconnected Control Area Operating Agreement (ICAOA) between the ISO and Sacramento Municipal Utility District (SMUD). The ISO requests that the agreement be made effective as of July 7, 2003. ISO states that the purpose of Amendment No. 1 is to revise Service Schedule 6 (Real-Time Operating Limits) to update certain rating information for the Hurley Interconnection and for the Elverta Interconnection.

The ISO states that this filing has been served on SMUD and the Public Utilities Commission of the State of California.

Comment Date: August 22, 2003.

8. Soyland Power Cooperative, Inc.

[Docket No. ES03-47-000]

Take notice that on August 1, 2003, Soyland Power Cooperative, Inc. (Soyland), filed an application for authorization to issue and pledge up to and including $18,000,000 of debt securities under Section 204 of the Federal Power Act, and a request for waiver of the competitive bidding requirements and negotiated placement requirements of 18 CFR 34.2(a). Soyland requests expedited treatment of its application.

Comment Date: August 27, 2003.

9. Soyland Power Cooperative, Inc.

[Docket No. ES03-48-000]

Take notice that on August 1, 2003, Soyland Power Cooperative, Inc. (Soyland), filed an application for authorization to issue and pledge up to and including $2,858,000 of debt securities under Section 204 of the Federal Power Act, and a request for waiver of the competitive bidding requirements and negotiated placement requirements of 18 CFR 34.2(a). Soyland requests expedited treatment of its application.

Comment Date: August 27, 2003.

10. Soyland Power Cooperative, Inc.

[Docket No. ES03-49-000]

Take notice that on August 1, 2003, Soyland Power Cooperative, Inc. (Soyland), filed an application for authorization to issue and pledge up to and including $20,000,000 of debt securities under Section 204 of the Federal Power Act, and a request for waiver of the competitive bidding requirements and negotiated placement requirements of 18 CFR 34.2(a). Soyland requests expedited treatment of its application.

Comment Date: August 27, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-20852 Filed 8-14-03; 8:45 am]

BILLING CODE 6717-01-P